DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Special Subsistence Permits and Harvest Logs for Pacific Halibut in Waters Off Alaska.

OMB Approval Number: 0648-0512.

Form Number(s): None.

Type of Request: Regular submission.

Burden Hours: 325.

Number of Respondents: 109.

Average Hours Per Response: Permit applications, 10 minutes; harvest logs, 30 minutes; appeals, 4 hours.

Needs and Uses: The special Pacific halibut permits and harvest logs were created to monitor Pacific halibut subsistence use for ceremony and education by Alaska Native tribes. These ceremonial and educational permits are issued in addition to the Pacific halibut subsistence registration described in OMB Control No. 0648-0460.

Affected Public: State, Local or Tribal Government.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: February 12, 2008.
Gwellnar Banks,
Management Analyst, Office of the Chief Information Officer.

[FR Doc. E8-2925 Filed 2-14-08; 8:45 am]

BILLING CODE 3510-22-P